SUSQUEHANNA RIVER BASIN COMMISSION

Notice of Projects Approved for Consumptive Uses of Water

AGENCY: Susquehanna River Basin Commission.

ACTION: Notice of Approved Projects.

SUMMARY: This notice lists the projects approved by rule by the Susquehanna River Basin Commission during the period set forth in DATES.

DATES: June 1, 2010, through June 30, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f):

1. Chesapeake Appalachia, LLC; Pad ID: Duane, ABR-20100601, Leroy Township, Bradford County, Pa.; Consumptive Use of up to 7.500 mgd; Approval Date: June 2, 2010.

2. Chesapeake Appalachia, LLC; Pad ID: Finnerty, ABR-20100602, West Burlington Township, Bradford County, Pa.; Consumptive Use of up to 7.500 mgd; Approval Date: June 2, 2010.

3. Cabot Oil and Gas Corporation, Pad ID: OakleyJ P1, ABR-20100603, Springville Township, Susquehanna County, Pa.; Consumptive Use of up to 3.575 mgd; Approval Date: June 2, 2010.

4. XTO Energy Incorporated, Pad ID: Brown 8519H, ABR-20100604, Moreland Township, Lycoming County, Pa.; Consumptive Use of up to 4.000 mgd; Approval Date: June 2, 2010.

5. Cabot Oil & Gas Corporation, Pad ID: Post P1, ABR-20100605, Brooklyn Township, Susquehanna County, Pa.; Consumptive Use of up to 3.575 mgd; Approval Date: June 2, 2010.

6. Chesapeake Appalachia, LLC; Pad ID: Allen, ABR-20100606, Wysox Township, Bradford County, Pa.; Consumptive Use of up to 7.500 mgd; Approval Date: June 2, 2010.

7. Seneca Resources Corporation, Pad ID: Wivell Pad I, ABR-20100607, Covington Township, Tioga County, Pa.; Consumptive Use of up to 4.000 mgd; Approval Date: June 2, 2010.

8. Cabot Oil & Gas Corporation, Pad ID: Lauffer P1, ABR-20100608, Springville Township, Susquehanna County, Pa.; Consumptive Use of up to 3.575 mgd; Approval Date: June 2, 2010.

9. Cabot Oil & Gas Corporation, Pad ID: StockholmK P3, ABR-20100609, Rush Township, Susquehanna County, Pa.; Consumptive Use of up to 3.575 mgd; Approval Date: June 2, 2010.

10. Chesapeake Appalachia, LLC; Pad ID: Rylee, ABR-20100610, Auburn Township, Susquehanna County, Pa.; Consumptive Use of up to 7.500 mgd; Approval Date: June 3, 2010.

11. EXCO Resources (PA), Inc.; Pad ID: Taylor (Pad 33), ABR-20100611, Burnside Township, Centre County, Pa.; Consumptive Use of up to 8.000 mgd; Approval Date: June 3, 2010.

12. Cabot Oil & Gas Corporation, Pad ID: HullR P2, ABR-20100612, Springville Township, Susquehanna County, Pa.; Consumptive Use of up to 3.575 mgd; Approval Date: June 4, 2010.

13. Seneca Resources Corporation, Pad ID: DCNR Tract 007 1V, ABR-20100613, Shippen Township, Tioga County, Pa.; Consumptive Use of up to 4.000 mgd; Approval Date: June 4, 2010.

14. East Resources, Inc.; Pad ID: Barbine 292, ABR-20100614, Charleston Township, Tioga County, Pa.; Consumptive Use of up to 4.000 mgd; Approval Date: June 4, 2010.

15. East Resources, Inc.; Pad ID: Mitchell 456, ABR-20100615, Jackson Township, Tioga County, Pa.; Consumptive Use of up to 4.000 mgd; Approval Date: June 4, 2010.

16. Chief Oil & Gas, LLC; Pad ID: Fulmer Drilling Pad #1, ABR-20100616, Penn Township, Lycoming County, Pa.; Consumptive Use of up to 2.000 mgd; Approval Date: June 6, 2010.

17. Chesapeake Appalachia, LLC; Pad ID: Stalford, ABR-20100617, Wyalusing Township, Bradford County, Pa.; Consumptive Use of up to 7.500 mgd; Approval Date: June 7, 2010.

18. East Resources, Inc.; Pad ID: Erickson 423, ABR-20100618, Delmar Township, Tioga County, Pa.; Consumptive Use of up to 4.000 mgd; Approval Date: June 7, 2010.

19. Range Resources—Appalachia, LLC; Pad ID: Mohawk Lodge Unit, ABR-20100619, Gallagher Township, Clinton County, Pa.; Consumptive Use of up to 5.000 mgd; Approval Date: June 7, 2010.

20. Seneca Resources Corporation, Pad ID: Valldes Pad C, ABR-20100620, Covington Township, Tioga County, Pa.; Consumptive Use of up to 4.000 mgd; Approval Date: June 7, 2010.

21. Seneca Resources Corporation, Pad ID: Warren Pad B, ABR-20100621, Richmond Township, Tioga County, Pa.; Consumptive Use of up to 4.000 mgd; Approval Date: June 7, 2010.

22. East Resources, Inc.; Pad ID: Hege 426, ABR-20100622, Delmar Township, Tioga County, Pa.; Consumptive Use of up to 4.000 mgd; Approval Date: June 7, 2010.

23. East Resources, Inc.; Pad ID: Allen 620, ABR-20100623, Charleston Township, Tioga County, Pa.; Consumptive Use of up to 4.000 mgd; Approval Date: June 7, 2010.

24. Norse Energy Corporation USA, Pad ID: Krawiec #2, ABR-20100624, Smyrna Township, Chenango County, N.Y.; Consumptive Use of up to 0.100 mgd; Approval Date: June 7, 2010.

25. Norse Energy Corporation USA, Pad ID: Mulligan #1, ABR-20100625, Lebanon Township, Madison County, N.Y.; Consumptive Use of up to 0.100 mgd; Approval Date: June 7, 2010.

26. East Resources, Inc.; Pad ID: Hazelton 424, ABR-20100626, Shippen Township, Tioga County, Pa.; Consumptive Use of up to 4.000 mgd; Approval Date: June 8, 2010.

27. Norse Energy Corporation USA, Pad ID: Byler, R. #1, ABR-20100627, Lebanon Township, Madison County, N.Y.; Consumptive Use of up to 0.150 mgd; Approval Date: June 9, 2010.

28. Chief Oil & Gas, LLC; Pad ID: Shannon Land Mining Drilling Pad #1, ABR-20100628, Lawrence Township, Clearfield County, Pa.; Consumptive Use of up to 2.000 mgd; Approval Date: June 9, 2010.

29. Talisman Energy USA, Inc.; Pad ID: Roy 03 046, ABR-20100629, Wells Township, Bradford County, Pa.; Consumptive Use of up to 6.000 mgd; Approval Date: June 10, 2010.

30. Talisman Energy USA, Inc.; Pad ID: Roy 03 039, ABR-20100630, Wells Township, Bradford County, Pa.; Consumptive Use of up to 6.000 mgd; Approval Date: June 10, 2010.

31. Anadarko E&P Company, LP; Pad ID: COP Tract 728 Pad A, ABR-20100631, Watson Township, Lycoming County, Pa.; Consumptive Use of up to 3.000 mgd; Approval Date: June 10, 2010, including a partial waiver of 18 CFR 806.15.

32. EXCO Resources (PA), Inc.; Pad ID: Livergood (Pad 28), ABR-20100632, Burnside Township, Centre County, Pa.; Consumptive Use of up to 8.000 mgd; Approval Date: June 11, 2010.

33. Ultra Resources, Inc.; Pad ID: Pierson 810, ABR-20100633, Gaines Township, Tioga County, Pa.; Consumptive Use of up to 4.990 mgd; Approval Date: June 11, 2010.

34. Chesapeake Appalachia, LLC; Pad ID: Shaw, ABR-20100634, Windham Township, Wyoming County, Pa.; Consumptive Use of up to 7.500 mgd; Approval Date: June 11, 2010.

35. Anadarko E&P Company, LP; Pad ID: David C Duncan Pad A, ABR-20100635, Cascade Township, Lycoming County, Pa.; Consumptive Use of up to 3.000 mgd; Approval Date: June 11, 2010.

36. Anadarko E&P Company, LP; Pad ID: COP Tract 289 C, ABR-20100636, McHenry Township, Lycoming County, Pa.; Consumptive Use of up to 3.000 mgd; Approval Date: June 11, 2010, including a partial waiver of 18 CFR 806.15.

37. Chesapeake Appalachia, LLC; Pad ID: Cannella, ABR-20100637, Auburn Township, Susquehanna County, Pa.; Consumptive Use of up to 7.500 mgd; Approval Date: June 11, 2010.

38. Chesapeake Appalachia, LLC; Pad ID: Towner, ABR-20100638, Rome Township, Bradford County, Pa.; Consumptive Use of up to 7.500 mgd; Approval Date: June 14, 2010.

39. Chesapeake Appalachia, LLC; Pad ID: Bonin, ABR-20100639, Orwell Township, Bradford County, Pa.; Consumptive Use of up to 7.500 mgd; Approval Date: June 14, 2010.

40. Chesapeake Appalachia, LLC; Pad ID: BDF, ABR-20100640, Smithfield Township, Bradford County, Pa.; Consumptive Use of up to 7.500 mgd; Approval Date: June 14, 2010.

41. XTO Energy Incorporated, Pad ID: Moser 8521H, ABR-20100641, Franklin Township, Lycoming County, Pa.; Consumptive Use of up to 4.000 mgd; Approval Date: June 14, 2010.

42. Chesapeake Appalachia, LLC; Pad ID: Them, ABR-20100642, Wysox Township, Bradford County, Pa.; Consumptive Use of up to 7.500 mgd; Approval Date: June 14, 2010.

43. Chesapeake Appalachia, LLC; Pad ID: Serengeti, ABR-20100643, Troy Township, Bradford County, Pa.; Consumptive Use of up to 7.500 mgd; Approval Date: June 14, 2010.

44. EOG Resources, Inc.; Pad ID: PHC Pad U, ABR-20100644, Lawrence Township, Clearfield County, Pa.; Consumptive Use of up to 4.999 mgd; Approval Date: June 14, 2010.

45. EOG Resources, Inc.;, Pad ID: COP Pad B, ABR-20100645, Lawrence Township, Clearfield County, Pa.; Consumptive Use of up to 4.999 mgd; Approval Date: June 14, 2010.

46. Range Resources—Appalachia, LLC; Pad ID: Shohocken Hunt Club Unit #1H-#6H, ABR-20100646, Cummings Township, Lycoming County, Pa.; Consumptive Use of up to 5.000 mgd; Approval Date: June 14, 2010.

47. Talisman Energy USA, Inc.; Pad ID: Harnish 01 032, ABR-20100647, Canton Township, Bradford County, Pa.; Consumptive Use of up to 6.000 mgd; Approval Date: June 14, 2010.

48. Range Resources—Appalachia, LLC; Pad ID: Ogontz Fishing Club Unit #12H-#17H, ABR-20100648, Cummings Township, Lycoming County, Pa.; Consumptive Use of up to 5.000 mgd; Approval Date: June 14, 2010.

49. Seneca Resources Corporation, Pad ID: Murray Pad A, ABR-20100317.1, Richmond Township, Tioga County, Pa.; Consumptive Use of up to 4.000 mgd; Approval Date: June 14, 2010.

50. Talisman Energy USA, Inc.; Pad ID: Wray 03 058, ABR-20100649, Wells Township, Bradford County, Pa.; Consumptive Use of up to 6.000 mgd; Approval Date: June 15, 2010.

51. Talisman Energy USA, Inc.; Pad ID: Roy 03 040, ABR-20100650, Wells Township, Bradford County, Pa.; Consumptive Use of up to 6.000 mgd; Approval Date: June 15, 2010.

52. East Resources, Inc.; Pad ID: Gilman 812, ABR-20100651, Chatham Township, Tioga County, Pa.; Consumptive Use of up to 1.000 mgd; Approval Date: June 16, 2010.

53. East Resources, Inc.; Pad ID: Staples 804, ABR-20100652, Clymer Township, Tioga County, Pa.; Consumptive Use of up to 1.000 mgd; Approval Date: June 16, 2010.

54. Southwestern Energy Production Company, Pad ID: Robinson, ABR-20100653, Stevens Township, Bradford County, Pa.; Consumptive Use of up to 4.999 mgd; Approval Date: June 16, 2010.

55. Talisman Energy USA, Inc.; Pad ID: Schucker 03 006, ABR-20100654, Columbia Township, Bradford County, Pa.; Consumptive Use of up to 6.000 mgd; Approval Date: June 16, 2010.

56. EOG Resources, Inc.; Pad ID: MATTOCKS 1V, ABR-20100655, Springfield Township, Bradford County, Pa.; Consumptive Use of up to 4.999 mgd; Approval Date: June 16, 2010.

57. Seneca Resources Corporation, Pad ID: DCNR Tract 001 1V, ABR-20100656, Sweden Township, Potter County, Pa.; Consumptive Use of up to 4.000 mgd; Approval Date: June 16, 2010.

58. EOG Resources, Inc.; Pad ID: HAVEN 1H, ABR-20100657, Springfield Township, Bradford County, Pa.; Consumptive Use of up to 1.999 mgd; Approval Date: June 16, 2010.

59. EOG Resources, Inc.; Pad ID: HAVEN 3H, ABR-20100658, Springfield Township, Bradford County, Pa.; Consumptive Use of up to 1.999 mgd; Approval Date: June 16, 2010.

60. East Resources, Inc.; Pad ID: Shelman 291, ABR-20100659, Charleston Township, Tioga County, Pa.; Consumptive Use of up to 4.000 mgd; Approval Date: June 17, 2010.

61. Chesapeake Appalachia, LLC; Pad ID: Oshea, ABR-20100660, Windham Township, Bradford County, Pa.; Consumptive Use of up to 7.500 mgd; Approval Date: June 17, 2010.

62. Chesapeake Appalachia, LLC; Pad ID: LRTC, ABR-20100661, Morris Township, Tioga County, Pa.; Consumptive Use of up to 7.500 mgd; Approval Date: June 17, 2010.

63. Chesapeake Appalachia, LLC; Pad ID: Linski, ABR-20100662, Tuscarora Township, Bradford County, Pa.; Consumptive Use of up to 7.500 mgd; Approval Date: June 17, 2010.

64. Cabot Oil and Gas Corporation, Pad ID: StockholmK P1, ABR-20100663, Dimock Township, Susquehanna County, Pa.; Consumptive Use of up to 3.575 mgd; Approval Date: June 18, 2010.

65. XTO Energy Incorporated, Pad ID: Marquardt 8534H, ABR-20100664, Penn Township, Lycoming County, Pa.; Consumptive Use of up to 4.000 mgd; Approval Date: June 18, 2010.

66. Talisman Energy (USA), Inc.; Pad ID: Boor 03 010, ABR-20100665, Columbia Township, Bradford County, Pa.; Consumptive Use of up to 6.000 mgd; Approval Date: June 18, 2010.

67. Norse Energy Corporation, Pad ID: Aarismaa, J. #1, ABR-20100666, Preston Township, Chenango County, N.Y.; Consumptive Use of up to 0.150 mgd; Approval Date: June 21, 2010.

68. EnCana Oil & Gas (USA), Inc.; Pad ID: Salansky 1H, ABR-20100667, Lake Township, Luzerne County, Pa.; Consumptive Use of up to 1.200 mgd; Approval Date: June 21, 2010.

69. EXCO Resources (PA), Inc.; Pad ID: Confer (Pad 31), ABR-20100668, Burnside Township, Centre County, Pa.; Consumptive Use of up to 3.000 mgd; Approval Date: June 21, 2010.

70. EXCO Resources (PA), Inc.; Pad ID: Confer (Pad 32), ABR-20100669, Burnside Township, Centre County, Pa.; Consumptive Use of up to 3.000 mgd; Approval Date: June 21, 2010.

71. East Resources, Inc.; Pad ID: Doan 893, ABR-20100670, Deerfield Township, Tioga County, Pa.; Consumptive Use of up to 4.000 mgd; Approval Date: June 21, 2010.

72. Chesapeake Appalachia, LLC; Pad ID: Alderfer NEW, ABR-20100671, Litchfield Township, Bradford County, Pa.; Consumptive Use of up to 7.500 mgd; Approval Date: June 21, 2010.

73. Chesapeake Appalachia, LLC; Pad ID: Steinbright, ABR-20100672, Orwell Township, Bradford County, Pa.; Consumptive Use of up to 7.500 mgd; Approval Date: June 22, 2010.

74. East Resources, Inc.; Pad ID: Broadbent 466, ABR-20100673, Delmar Township, Tioga County, Pa.; Consumptive Use of up to 4.000 mgd; Approval Date: June 22, 2010.

75. Chief Oil & Gas, LLC; Pad ID: Castrogiovanni Drilling Pad #1, ABR-20100674, Elkland Township, Sullivan County, Pa.; Consumptive Use of up to 2.000 mgd; Approval Date: June 22, 2010.

76. Chief Oil & Gas, LLC; Pad ID: Baumunk Drilling Pad #1, ABR-20100675, Elkland Township, Sullivan County, Pa.; Consumptive Use of up to 2.000 mgd; Approval Date: June 22, 2010.

77. Chief Oil & Gas, LLC; Pad ID: McCarty Drilling Pad #1, ABR-20100676, Elkland Township, Sullivan County, Pa.; Consumptive Use of up to 2.000 mgd; Approval Date: June 22, 2010.

78. Triana Energy, LLC; Pad ID: Triana-Young Pad A, ABR-20100677, Hector Township, Potter County, Pa.; Consumptive Use of up to 6.000 mgd; Approval Date: June 22, 2010.

79. Carrizo Marcellus, LLC; Pad ID: Selma Stang 2H, ABR-20100678, Washington Township, Wyoming County, Pa.; Consumptive Use of up to 1.400 mgd; Approval Date: June 22, 2010.

80. Carrizo Marcellus, LLC; Pad ID: Sickler 5H, ABR-20100679, Washington Township, Wyoming County, Pa.; Consumptive Use of up to 1.400 mgd; Approval Date: June 22, 2010.

81. Chesapeake Appalachia, LLC; Pad ID: Cranrun, ABR-20100680, Leroy Township, Bradford County, Pa.; Consumptive Use of up to 7.500 mgd; Approval Date: June 22, 2010.

82. Chief Oil & Gas, LLC; Pad ID: Poor Shot East Drilling Pad #2, ABR-20100681, Anthony Township, Lycoming County, Pa.; Consumptive Use of up to 2.000 mgd; Approval Date: June 22, 2010.

83. East Resources, Inc.; Pad ID: Zeafla 747, ABR-20100682, Jackson Township, Lycoming County, Pa.; Consumptive Use of up to 4.000 mgd; Approval Date: June 22, 2010.

84. East Resources, Inc.; Pad ID: Camp Never Too Late 521, ABR-20100683, Rutland Township, Tioga County, Pa.; Consumptive Use of up to 4.000 mgd; Approval Date: June 22, 2010.

85. Anadarko E&P Company, LP; Pad ID: Larry's Creek F&G, ABR-20100684, Cummings Township, Lycoming County, Pa.; Consumptive Use of up to 3.000 mgd; Approval Date: June 22, 2010.

86. East Resources, Inc.; Pad ID: Cruttenden 846, ABR-20100685, Middlebury Township, Tioga County, Pa.; Consumptive use of up to 4.000 mgd; Approval Date: June 23, 2010.

87. Chesapeake Appalachia, LLC; Pad ID: Black Creek, ABR-20100686, Forks Township, Sullivan County, Pa.; Consumptive Use of up to 7.500 mgd; Approval Date: June 23, 2010.

88. Chesapeake Appalachia, LLC; Pad ID: Beebe, ABR-20100687, Asylum Township, Bradford County, Pa.; Consumptive use of up to 7.500 mgd; Approval Date: June 23, 2010.

89. East Resources, Inc.; Pad ID: Hauswirth 516, ABR-20100688, Richmond Township, Tioga County, Pa.; Consumptive use of up to 4.000 mgd; Approval Date: June 23, 2010.

90. Chesapeake Appalachia, LLC; Pad ID: Akita NEW, ABR-20100689, Smithfield Township, Bradford County, Pa.; Consumptive use of up to 7.500 mgd; Approval Date: June 23, 2010.

91. EOG Resources Inc.; Pad ID: PHC Pad R, ABR-20100690, Lawrence Township, Clearfield County, Pa.; Consumptive use of up to 4.999 mgd; Approval Date: June 23, 2010.

92. Ultra Resources, Inc.; Pad ID: Martin 806, ABR-20100691, Gaines Township, Tioga County, Pa.; Consumptive use of up to 4.990 mgd; Approval Date: June 23, 2010.

93. EOG Resources, Inc.; Pad ID: KINGSLEY 2H, ABR-20100692, Springfield Township, Bradford County, Pa.; Consumptive use of up to 4.999 mgd; Approval Date: June 23, 2010.

94. Talisman Energy USA Inc.; Pad ID: Morgan 01 073, ABR-20100693, Armenia Township, Bradford County, Pa.; Consumptive use of up to 6.000 mgd; Approval Date: June 24, 2010.

95. Anadarko E&P Company LP, Pad ID: COP Tr 344 Pad A, ABR-20100694, Noyes Township, Clinton County, Pa.; Consumptive use of up to 3.000 mgd; Approval Date: June 24, 2010, including a partial waiver of 18 CFR 806.15.

96. Anadarko E&P Company LP, Pad ID: COP Tr 342 A, ABR-20100695, Beech Creek Township, Clinton County, Pa.; Consumptive Use of up to 3.000 mgd; Approval Date: June 24, 2010, including a partial waiver of 18 CFR 806.15.

97. Talisman Energy USA Inc., Pad ID: Lyon 01 078, ABR-20100696, Troy Township, Bradford County, Pa.; Consumptive Use of up to 6.000 mgd; Approval Date: June 24, 2010.

98. Chief Oil & Gas, LLC; Pad ID: Signore Drilling Pad #1, ABR-20100697, Elkland Township, Sullivan County, Pa.; Consumptive Use of up to 2.000 mgd; Approval Date: June 24, 2010.

99. EOG Resources, Inc.; Pad ID: KINGSLEY 3H, ABR-20100698, Springfield Township, Bradford County, Pa.; Consumptive Use of up to 4.999 mgd; Approval Date: June 24, 2010.

100. Chief Oil & Gas, LLC; Pad ID: Frey Drilling Pad #1, ABR-20100699, Fox Township, Sullivan County, Pa.; Consumptive Use of up to 2.000 mgd; Approval Date: June 25, 2010.

101. Talisman Energy USA, Inc.; Pad ID: McClure 03 053, ABR-201006100, Columbia Township, Bradford County, Pa.; Consumptive Use of up to 6.000 mgd; Approval Date: June 25, 2010.

102. Talisman Energy USA, Inc.; Pad ID: White 03 025, ABR-201006101, Columbia Township, Bradford County, Pa.; Consumptive Use of up to 6.000 mgd; Approval Date: June 25, 2010.

103. Chesapeake Appalachia, LLC; Pad ID: Hilltop NEW, ABR-201006102, Jessup Township, Susquehanna County, Pa.; Consumptive Use of up to 7.500 mgd; Approval Date: June 28, 2010.

104. Chesapeake Appalachia, LLC; Pad ID: Henderson, ABR-201006103, Fox Township, Sullivan County, Pa.; Consumptive Use of up to 7.500 mgd; Approval Date: June 28, 2010.

105. Chesapeake Appalachia, LLC; Pad ID: Lillie NEW, ABR-201006104, Herrick Township, Bradford County, Pa.; Consumptive Use of up to 7.500 mgd; Approval Date: June 28, 2010.

106. EQT Production Company, Pad ID: Phoenix F, ABR-201006105, Duncan Township, Tioga County, Pa.; Consumptive Use of up to 3.000 mgd; Approval Date: June 28, 2010.

107. East Resources, Inc.; Pad ID: Palmer 809, ABR-201006106, Chatham Township, Tioga County, Pa.; Consumptive Use of up to 1.000 mgd; Approval Date: June 28, 2010.

108. Chesapeake Appalachia, LLC; Pad ID: Kipar NEW, ABR-201006107, Auburn Township, Susquehanna County, Pa.; Consumptive Use of up to 7.500 mgd; Approval Date: June 28, 2010.

109. Chesapeake Appalachia, LLC; Pad ID: Kriebel NEW, ABR-201006108, Elkland Township, Sullivan County, Pa.; Consumptive Use of up to 7.500 mgd; Approval Date: June 28, 2010.

110. Chief Oil & Gas, LLC; Pad ID: Longmore Drilling Pad #1, ABR-201006109, Monroe Township, Wyoming County, Pa.; Consumptive Use of up to 2.000 mgd; Approval Date: June 28, 2010.

111. Chesapeake Appalachia, LLC; Pad ID: Curtin, ABR-201006110, Windham Township, Wyoming County, Pa.; Consumptive Use of up to 7.500 mgd; Approval Date: June 29, 2010.

112. East Resources, Inc.; Pad ID: Anthony 564, ABR-201006111, Delmar Township, Tioga County, Pa.; Consumptive Use of up to 4.000 mgd; Approval Date: June 29, 2010.

113. East Resources, Inc.; Pad ID: Costanzo 818, ABR-201006112, Chatham Township, Tioga County, Pa.; Consumptive Use of up to 1.000 mgd; Approval Date: June 29, 2010.

114. East Resources, Inc.; Pad ID: Yaggie 704, ABR-201006113, Union Township, Tioga County, Pa.; Consumptive Use of up to 4.000 mgd; Approval Date: June 29, 2010.

115. EQT Production Company, Pad ID: Phoenix C, ABR-201006114, Duncan Township, Tioga County, Pa.; Consumptive Use of up to 3.000 mgd; Approval Date: June 29, 2010.

Authority: Pub. L. 91-575, 84 Stat. 1509 et seq., 18 CFR parts 806, 807, and 808.

Dated: August 9, 2010.
Stephanie L. Richardson,
Secretary to the Commission.

[FR Doc. 2010-20419 Filed 8-17-10; 8:45 am]

BILLING CODE 7040-01-P